ENVIRONMENTAL PROTECTION AGENCY

40 CFR Part 52

[CA 247-0347b; FRL-7220-7]

Revisions to the California State Implementation Plan, Monterey Bay Unified Air Pollution Control District and South Coast Air Quality Management District

AGENCY: Environmental Protection Agency (EPA).

ACTION: Proposed rule.

SUMMARY: EPA is proposing to approve revisions to the Monterey Bay Unified Air Pollution Control District (MBUAPCD) and South Coast Air Quality Management District (SCAQMD) portion of the California State Implementation Plan (SIP). These revisions concern volatile organic compound (VOC) emissions from solvent cleaning operations and dry cleaners using solvent other than perchloroethylene. We are proposing to approve local rules to regulate these emission sources under the Clean Air Act as amended in 1990 (CAA or the Act).

DATES: Any comments on this proposal must arrive by August 16, 2002.

ADDRESSES: Mail comments to Andy Steckel, Rulemaking Office Chief (AIR-4), U.S. Environmental Protection Agency, Region IX, 75 Hawthorne Street, San Francisco, CA 94105-3901.

You can inspect copies of the submitted SIP revisions and EPA's technical support documents (TSDs) at our Region IX office during normal business hours. You may also see copies of the submitted SIP revisions at the following locations:

California Air Resources Board, Stationary Source Division, Rule Evaluation Section, 1001 “I” Street, Sacramento, CA 95814.

Monterey Bay Unified Air Pollution Control District, 24580 Silver Cloud Ct., Monterey, CA 93940-6536

South Coast Air Quality Management District, 21865 E. Copley Dr., Diamond Bar, CA 91765-4182

FOR FURTHER INFORMATION CONTACT: Cynthia G. Allen, Rulemaking Office (Air-4), U.S. Environmental Protection Agency, Region IX, (415) 947-4120.

SUPPLEMENTARY INFORMATION: This proposal addresses the following local rules: MBUAPCD 416 and SCAQMD 1102. In the Rules and Regulations section of this Federal Register, we are approving these local rules in a direct final action without prior proposal because we believe these SIP revisions are not controversial. If we receive adverse comments, however, we will publish a timely withdrawal of the direct final rule and address the comments in subsequent action based on this proposed rule. Please note that if we receive adverse comment on an amendment, paragraph, or section of this rule and if that provision may be severed from the remainder of the rule, we may adopt as final those provisions of the rule that are not the subject of an adverse comment.

We do not plan to open a second comment period, so anyone interested in commenting should do so at this time. If we do receive adverse comments, no further activity is planned. For further information, please see the direct final action.

Dated: May 9, 2002.
Alexis Strauss,
Acting Regional Administrator, Region IX.

[FR Doc. 02-17703 Filed 7-16-02; 8:45 am]

BILLING CODE 6560-50-P